DEPARTMENT OF THE INTERIOR

Minerals Management Service (MMS)

Outer Continental Shelf (OCS) Scientific Committee (SC) of the Minerals Management Advisory Board; Announcement of Plenary Session

AGENCY: Minerals Management Service, Interior.

SUMMARY: The Minerals Management Advisory Board OCS SC will meet at the Chateau Sonesta Hotel in New Orleans, Louisiana, November 28-30, 2000.

The OCS SC is an outside group of scientists which advises the Director, MMS, on the feasibility, appropriateness, and scientific merit of the MMS OCS Environmental Studies Program as it relates to information needed for informed OCS decisionmaking.

The Committee will meet in plenary session on Tuesday, November 28, from 8 a.m. to 5:30 p.m., and meet in breakout sessions by discipline in the morning and regionally in the afternoon of November 29. The plenary session will reconvene at 8 a.m. on November 30 and adjourn at noon.

Discussion will focus on the following:

• Ocean Activities Update

• Future Plans for Sand and Gravel Program

• Environmental Studies Program Highlights

• Regional Updates

The meetings are open to the public. Approximately 30 visitors can be accommodated on a first-come-first-served basis at the plenary session.

A copy of the agenda may be requested from the MMS by calling Julie Reynolds at (703) 787-1211 or by electronic mail (julie.reynolds@mms.gov). Other inquiries concerning the OCS SC meeting should be addressed to Mr. Robert LaBelle, Executive Secretary to the OCS Scientific Committee Minerals Management Service, 381 Elden Street, Mail Stop 4040, Herndon, Virginia 20170-4817. He may be reached by telephone at (703) 787-1756, and by electronic mail at robert.labelle@mms.gov.

DATES: November 28-30, 2000.

ADDRESSES: Chateau Sonesta Hotel, 800 Iberville Street, New Orleans, Louisiana 70112-3143, telephone (504) 586-0800.

FOR FURTHER INFORMATION CONTACT: Julie Reynolds or Robert LaBelle at the address or phone numbers listed above.

Authority: Federal Advisory Committee Act, Pub. Law 92-463, 5 U.S.C., appendix I, and the Office of Management and Budget's circular A-63, Revised.

Dated: October 19, 2000.
Thomas A. Readinger,
Associate Director for Offshore Minerals Management.

[FR Doc. 00-27592 Filed 10-25-00; 8:45 am]

BILLING CODE 4043-MR-M